DEPARTMENT OF TRANSPORTATION

Federal Aviation Administration

14 CFR Part 39

[Docket No. FAA-2013-0445; Directorate Identifier 2012-SW-098-AD; Amendment 39-17458; AD 2013-10-05]

RIN 2120-AA64

Airworthiness Directives; Eurocopter Deutschland GmbH Helicopters

AGENCY: Federal Aviation Administration (FAA), Department of Transportation (DOT).

ACTION: Final rule; request for comments.

SUMMARY: We are adopting a new airworthiness directive (AD) for Eurocopter Deutschland GmbH (ECD) Model MBB-BK 117 C-2 helicopters. This AD requires revising the operating limitations to prohibit flights under instrument flight rules (IFR) or under night visual flight rules (VFR) when the autotrim is inoperative. The actions of this AD are intended to prevent a workload situation whereby stabilizing the helicopter in flight would be difficult if not impossible, resulting in possible loss of helicopter control.

DATES: This AD becomes effective June 10, 2013.

We must receive comments on this AD by July 23, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the economic evaluation, any comments received, and other information. The street address for the Docket Operations Office (telephone 800-647-5527) is in the ADDRESSES section. Comments will be available in the AD docket shortly after receipt.

For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: George Schwab, Aviation Safety Engineer, Safety Management Group, Rotorcraft Directorate, FAA, 2601 Meacham Blvd., Fort Worth, Texas 76137; telephone (817) 222-5110; email george.schwab@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, issued EASA AD No. 2012-0216, dated October 18, 2012, to correct an unsafe condition for ECD Model MBB-BK 117 C-2 helicopters. EASA advises that the autopilot (AP) of a Model MBB-BK 117 C-2 helicopter failed in flight with “ACTUATOR” and “BACKUP SAS” messages appearing on the caution and advisory display, “AP” illuminated in red on the warning unit, and Y (Yaw actuator) and P (pitch actuator) on the primary flight display. With the AP switched off, cautions “YAW SAS” and “BACKUP SAS” appeared on the caution and advisory display. When the AP was switched on again, the “YAW SAS” caution stopped appearing while “BACKUP SAS” still appeared, EASA reports.

According to EASA, an investigation indicates that a short circuit on the yaw Smart Electro-Mechanical Actuator (SEMA) “ACTIV” input to ground led to the seizure of all five SEMA units. EASA advises that this condition, if not corrected, “combined with an inoperative Autotrim in Pitch or Roll, or combined with an inoperative Autotrim in Cyclic and Yaw axis,” could significantly reduce the pilot's reaction time to stabilize the helicopter, resulting in possible loss of helicopter control. EASA reports that this situation could occur when operating under IFR or night VFR.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs.

Related Service Information

Eurocopter has issued Alert Service Bulletin MBB-BK117 C-2-22A-013, dated October 12, 2012 (ASB), which states that the autopilot and caution indication systems failed during flight. Eurocopter's initial analysis revealed that a short circuit occurred within a SEMA, causing the SEMAs' adjustment travel to “freeze.” If this failure is combined with a failure of the autotrim system in the pitch, roll, or yaw axis, it could reduce the pilot's reaction time to stabilize the helicopter “in an unacceptable way.” The ASB requires revision of sections of the master minimum equipment list (MMEL) with respect to inoperative TRIM-function to restrict dispatch conditions.

AD Requirements

Within 25 hours time-in-service (TIS) or 30 days, whichever comes first, this AD requires you to insert a statement into the operating limitations section of the MBB-BK 117C-2 Rotorcraft Flight Manual under paragraph 2.2, Kinds of Operations, prohibiting operation under IFR or Night VFR with the autotrim inoperative in pitch or roll, or combined inoperative autotrim in cyclic and yaw axis.

Differences Between This AD and the EASA AD

The EASA AD requires revising the operator's minimum equipment list (MEL). We make no requirement regarding the MEL.

Costs of Compliance

We estimate that this AD will affect 109 helicopters of U.S. Registry and that labor costs will average $85 a work hour. Based on these assumptions, we expect the following costs:

Placing the AD in the limitations section of the RFM will require a 0.2 work-hour and no parts for a cost of $17 per helicopter, $1,853 for the U.S. fleet.

FAA's Justification and Determination of the Effective Date

Providing an opportunity for public comments prior to adopting these AD requirements would delay implementing the safety actions needed to correct this known unsafe condition. Therefore, we find that the risk to the flying public justifies waiving notice and comment prior to the adoption of this rule, because the required corrective actions must be accomplished within 25 hours TIS or 30 days. As the ECD Model MBB-BK 117 C-2 helicopter is used in such areas as emergency medical service, newsgathering, and law enforcement, this is a short time period.

Since an unsafe condition exists that requires the immediate adoption of this AD, we determined that notice and opportunity for public comment before issuing this AD are impractical and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-10-05 Eurocopter Deutschland GmbH Helicopters: Amendment 39-17458; Docket No. FAA-2013-0445; Directorate Identifier 2012-SW-098-AD.

(a) Applicability

This AD applies to Eurocopter Deutschland GmbH (ECD) Model MBB-BK 117 C-2 helicopters, certificated in any category.

(b) Unsafe Condition

This AD defines the unsafe condition as a failure of the autotrim system in pitch or roll, or a combined inoperative autotrim in the cyclic and yaw axis. This condition could significantly increase the pilot's workload to stabilize the helicopter, especially in low visibility conditions, resulting in loss of helicopter control.

(c) Effective Date

This AD becomes effective June 10, 2013.

(d) Compliance

You are responsible for performing each action required by this AD within the specified compliance time unless it has already been accomplished prior to that time.

(e) Required Action

Within 25 hours time-in-service or 30 days, whichever comes first, revise the Operating Limitations section of the MBB-BK 117C-2 Rotorcraft Flight Manual (RFM), under paragraph 2.2, Kinds of Operations, by inserting a copy of this AD into the RFM or by making pen and ink changes to add the following statement:

Dispatch under Instrument Flight Rules (IFR) or night Visual Flight Rules (VFR) with the Autotrim inoperative in Pitch or Roll or a combined inoperative Autotrim in Cyclic and Yaw axis is PROHIBITED.

(f) Alternative Methods of Compliance (AMOCs)

(1) The Manager, Safety Management Group, FAA, may approve AMOCs for this AD. Send your proposal to: George Schwab, Aviation Safety Engineer, Safety Management Group, Rotorcraft Directorate, FAA, 2601 Meacham Blvd., Fort Worth, Texas 76137; telephone (817) 222-5110; email george.schwab@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Eurocopter Alert Service Bulletin MBB-BK117 C-2-22A-013, dated October 12, 2012, which is not incorporated by reference, contains additional information about the subject of this AD. For service information identified in this AD, contact American Eurocopter Corporation, 2701 N. Forum Drive, Grand Prairie, TX 75052; telephone (972) 641-0000 or (800) 232-0323; fax (972) 641-3775; or at http://www.eurocopter.com/techpub. You may review a copy of the service information at the FAA, Office of the Regional Counsel, Southwest Region, 2601 Meacham Blvd., Room 663, Fort Worth, Texas 76137.

(2) The subject of this AD is addressed in the European Aviation Safety Agency AD No. 2012-0216, dated October 18, 2012.

(h) Subject

Joint Aircraft Service Component (JASC) Code: 22, Autopilot Dispatch Restriction.

Issued in Fort Worth, Texas, on May 14, 2013.
Kim Smith,
Directorate Manager, Rotorcraft Directorate, Aircraft Certification Service.

[FR Doc. 2013-12307 Filed 5-23-13; 8:45 am]

BILLING CODE 4910-13-P